DEPARTMENT OF LABOR

Mine Safety and Health Administration

Petitions for Modification

The following parties have filed petitions to modify the application of mandatory safety standards under section 101(c) of the Federal Mine Safety and Health Act of 1977.

1. CONSOL of Kentucky, Inc.

[Docket No. M-1999-143-C]

CONSOL of Kentucky, Inc., Consol Plaza, 1800 Washington Road, Pittsburgh, Pennsylvania 15241-1421 has filed a petition to modify the application of 30 CFR 75.701 (grounding metallic frames, casings, and other enclosures of electric equipment) to its Rhoades Branch H-4 Mine (I.D. No. 15-18212) located in Lechter County, Kentucky. The petitioner proposes to use a diesel-generated source of low and medium voltage, three-phase electrical power during transportation of certain mobile equipment underground. The petitioner has listed in this petition specific terms and conditions for using the generator system. The petitioner asserts that the proposed alternative method would provide at least the same measure of protection as the mandatory standard.

2. CONSOL of Kentucky, Inc.

[Docket No. M-1999-144-C]

CONSOL of Kentucky, Inc., Consol Plaza, 1800 Washington Road, Pittsburgh, Pennsylvania 15241-1421 has filed a petition to modify the application of 30 CFR 75.901(a) (protection of low- and medium-voltage three-phase circuits used underground) to its Rhoades Branch H-4 Mine (I.D. No. 15-18212) located in Lechter County, Kentucky. The petitioner proposes to use a diesel-generated source of low-and medium-voltage, three-phase electrical power during transportation of certain mobile equipment underground. The petitioner proposes to derive a low-and medium-voltage, three-phase, alternating current for use underground from a portable, diesel-driven generator. The petitioner asserts that the proposed alternative method would provide at least the same measure of protection as the mandatory standard.

3. CONSOL of Kentucky, Inc.

[Docket No. M-1999-145-C]

CONSOL of Kentucky, Inc., Consol Plaza, 1800 Washington Road, Pittsburgh, Pennsylvania 15241-1421 has filed a petition to modify the application of 30 CFR 75.1101-8 (water sprinkler systems; arrangement of sprinklers) to its Rhoades Branch H-4 Mine (I.D. No. 15-18212) located in Lechter County, Kentucky. The petitioner proposes to use a single line of automatic sprinklers for its fire protection system on main and secondary belt conveyors. The petitioner asserts that the proposed alternative method would provide at least the same measure of protection as the mandatory standard.

4. Old Ben Coal Company

[Docket No. M-1999-146-C]

Old Ben Coal Company, P.O. Box 397, 13101 Zeigler Road, Coulterville, Illinois 62237 has filed a petition to modify the application of 30 CFR 75.902 (low- and medium-voltage ground check monitor circuits) to its Zeigler #11 Mine (I.D. No. 11-02408) located in Randolph County, Illinois. The petitioner requests a modification of the mandatory safety standard to permit the use of an alternative method for ground check monitoring. The petitioner proposes that the ground monitor would open a vacuum contactor instead of a circuit breaker in all combination stationary belt starters at the Zeigler #11 Mine. The petitioner asserts that the proposed alternative method would provide at least the same measure of protection as the mandatory standard.

5. Old Ben Coal Company

[Docket No. M-1999-147-C]

Old Ben Coal Company, P.O. Box 397, 13101 Zeigler Road, Coulterville, Illinois 62237 has filed a petition to modify the application of 30 CFR 75.900 (low- and medium-voltage circuits serving three-phase alternating current equipment; circuit breakers) to its Zeigler #11 Mine (I.D. No. 11-02408) located in Randolph County, Illinois. The petitioner requests that Item #1 of its previous petition for modification, docket number M-96-147-C, be amended to read as follows: The petition for modification shall apply to the requirement for under-voltage protection and grounded phase protection for three-phase circuits supplying stationary belt drive installations presently in use or installed in the future. The petitioner asserts that this amendment would provide at least the same measure of protection as the previous petition.

6. Consolidation Coal Company

[Docket No. M-1999-148-C]

Consolidation Coal Company, Consol Plaza, 1800 Washington Road, Pittsburgh, Pennsylvania 15241-1421 has filed a petition to modify the application of 30 CFR 75.364(b)(2) (weekly examination) to its Shoemaker Mine (I.D. No. 46-01436) located in Marshall County, West Virginia. Due to deteroriating roof conditions in certain areas of the return air course, the petitioner proposes to establish two check points that will be maintained in safe condition at all times, and to have a certified person test for methane and the quantity of air at both check points on a weekly basis. The petitioner asserts that the proposed alternative method would provide at least the same measure of protection as the mandatory standard.

7. Fork Creek Mining Company

[Docket No. M-1999-149-C]

Fork Creek Mining Company, Fork Creek Mine Road, P.O. Box 24, Alum Creek, West Virginia 25003 has filed a petition to modify the application of 30 CFR 75.350 (air courses and belt haulage entries) to its Fork Creek No. 1 Mine (I.D. No. 48-08763) located in Kanawha County, West Virginia. The petitioner proposes to use air coursed through the belt haulage entry to ventilate active working places. The petitioner proposes to install a carbon monoxide monitoring system as an early warning fire detection system in all belt entries used to carry intake air to a working place. The petitioner asserts that the proposed alternative method would provide at least the same measure of protection as the mandatory standard.

8. Perry County Mining Company

[Docket No. M-1999-150-C]

Perry County Mining Company, P.O. Box 5002, Hazard, Kentucky 41701 has filed a petition to modify the application of 30 CFR 75.364(b)(1) (weekly examination) to its Eas #1 Mine (I.D. No. 15-02085) located in Perry County, Kentucky. Due to deteriorating roof conditions in certain areas of the intake air course, the petitioner proposes to establish four check points as air measurement stations. The petitioner asserts that the proposed alternative method would provide at least the same measure of protection as the mandatory standard.

9. The DOE Run Company

[Docket No. M-1999-021-M]

The DOE Run Company, One Oxford Centre, 301 Grant Street, 20th Floor, Pittsburgh, Pennsylvania 15219-1410 has filed a petition to modify the application of 30 CFR 57.11052 (refuge areas) to its West Fork Mine (I.D. No. 23-01787) located in Reynolds County, Missouri. The petitioner requests a modification of the mandatory safety standard to permit an alternative method of compliance with the requirements for refuge chambers. The petitioner asserts that the proposed alternative method would provide at least the same measure of protection as the mandatory standard and that application of the existing standard will result in a diminution of safety.

10. The DOE Run Company

[Docket No. M-1999-022-M]

The DOE Run Company, One Oxford Centre, 301 Grant Street, 20th Floor, Pittsburgh, Pennsylvania 15219-1410 has filed a petition to modify the application of 30 CFR 57.11052 (refuge areas) to its Fletcher Mine and Mill (I.D. No. 23-00409) located in Reynolds County, Missouri. The petitioner requests a modification of the mandatory safety standard to permit an alternative method of compliance with the requirements for refuge chambers. The petitioner asserts that the proposed alternative method would provide at least the same measure of protection as the mandatory standard and that application of the existing standard will result in a diminution of safety.

11. The DOE Run Company

[Docket No. M-1999-023-M]

The DOE Run Company, One Oxford Centre, 301 Grant Street, 20th Floor, Pittsburgh, Pennsylvania 15219-1410 has filed a petition to modify the application of 30 CFR 57.11052 (refuge areas) to its Brushy Creek Mine/Mill (I.D. No. 23-00499) located in Reynolds County, Missouri. The petitioner requests a modification of the mandatory safety standard to permit an alternative method of compliance with the requirements for refuge chambers. The petitioner asserts that the proposed alternative method would provide at least the same measure of protection as the mandatory standard and that application of the existing standard will result in a diminution of safety.

12. The DOE Run Company

[Docket No. M-1999-024-M]

The DOE Run Company, One Oxford Centre, 301 Grant Street, 20th Floor, Pittsburgh, Pennsylvania 15219-1410 has filed a petition to modify the application of 30 CFR 57.11052 (refuge areas) to its Buick Mine/Mill (I.D. No. 23-00457) located in Reynolds County, Missouri. The petitioner requests a modification of the mandatory safety standard to permit an alternative method of compliance with the requirements for refuge chambers. The petitioner asserts that the proposed alternative method would provide at least the same measure of protection as the mandatory standard and that application of the existing standard will result in a diminution of safety.

13. The DOE Run Company

[Docket No. M-1999-025-M]

The DOE Run Company, One Oxford Centre, 301 Grant Street, 20th Floor, Pittsburgh, Pennsylvania 15219-1410 has filed a petition to modify the application of 30 CFR 57.11052 (refuge areas) to its Sweetwater Mine/Mill (I.D. No. 23-00458) located in Reynolds County, Missouri. The petitioner requests a modification of the mandatory safety standard to permit an alternative method of compliance with the requirements for refuge chambers. The petitioner asserts that the proposed alternative method would provide at least the same measure of protection as the mandatory standard and that application of the existing standard will result in a diminution of safety.

14. The DOE Run Company

[Docket No. M-1999-026-M]

The DOE Run Company, One Oxford Centre, 301 Grant Street, 20th Floor, Pittsburgh, Pennsylvania 15219-1410 has filed a petition to modify the application of 30 CFR 57.11052 (refuge areas) to its No. 35 Mine (Casteel) (I.D. No. 23-01800) located in Iron County, Missouri. The petitioner requests a modification of the mandatory safety standard to permit an alternative method of compliance with the requirements for refuge chambers. The petitioner asserts that the proposed alternative method would provide at least the same measure of protection as the mandatory standard and that application of the existing standard will result in a diminution of safety.

15. The DOE Run Company

[Docket No. M-1999-027-M]

The DOE Run Company, One Oxford Centre, 301 Grant Street, 20th Floor, Pittsburgh, Pennsylvania 15219-1410 has filed a petition to modify the application of 30 CFR 57.11052 (refuge areas) to its No. 28 Mine/Mill (I.D. No. 23-00494) located in Iron County, Missouri. The petitioner requests a modification of the mandatory safety standard to permit an alternative method of compliance with the requirements for refuge chambers. The petitioner asserts that the proposed alternative method would provide at least the same measure of protection as the mandatory standard and that application of the existing standard will result in a diminution of safety.

16. The DOE Run Company

[Docket No. M-1999-028-M]

The DOE Run Company, One Oxford Centre, 301 Grant Street, 20th Floor, Pittsburgh, Pennsylvania 15219-1410 has filed a petition to modify the application of 30 CFR 57.11052 (refuge areas) to its No. 29 Mine (I.D. No. 23-00495) located in Iron County, Missouri. The petitioner requests a modification of the mandatory safety standard to permit an alternative method of compliance with the requirements for refuge chambers. The petitioner asserts that the proposed alternative method would provide at least the same measure of protection as the mandatory standard and that application of the existing standard will result in a diminution of safety.

Request for Comments

Persons interested in these petitions are encouraged to submit comments via e-mail to “comments@msha.gov,” or on a computer disk along with an original hard copy to the Office of Standards, Regulations, and Variances, Mine Safety and Health Administration, 4015 Wilson Boulevard, Room 627, Arlington, Virginia 22203. All comments must be postmarked or received in that office on or before March 6, 2000. Copies of these petitions are available for inspection at that address.

Dated: January 27, 2000.
Carol J. Jones,
Acting Director, Office of Standards, Regulations, and Variances.

[FR Doc. 00-2516 Filed 2-3-00; 8:45 am]

BILLING CODE 4510-43-P